DEPARTMENT OF HEALTH AND HUMAN SERVICES

Health Resources and Services Administration

Section 330A(e) of the Public Health Service Act, as Amended (42 U.S.C. 254c(e)) and Section 317(k)(2) of the Public Health Service Act, as Amended (42 U.S.C. 247b(k)(2))

AGENCY: Health Resources and Services Administration, HHS.

ACTION: Notice of Single Source Grant Award to Lincoln County Health Department in Libby, MT.

SUMMARY: The Health Resources and Services Administration (HRSA) is issuing a new single source award through the Rural Health Care Services Outreach Grant Program and the Centers for Disease Control and Prevention's (CDC) screening grant program authority to Lincoln County Health Department (LCHD) in Libby, Montana. A serious public health problem has been identified in Lincoln County, Montana, as residents in this rural community have been adversely affected by the asbestos released from a vermiculite mine. The asbestos-related diseases in which Lincoln County residents have been diagnosed include asbestosis, lung cancer, mesothelioma, and others. The purpose of this demonstration grant would be to provide care management for Lincoln County residents with asbestos-related diseases. The grant will provide funds to support the coordination and payment of care for asbestos-related diseases among such entities as hospitals, clinics, specialty care providers, and others involved in the care and treatment of this service population.

SUPPLEMENTARY INFORMATION:

Intended Recipient of the Award: Lincoln County Health Department in Libby, Montana.

Amount of the Award FY 2009: It is anticipated that up to $6,000,000 will be available from all sources for a 2-year project period from August 1, 2009—July 31, 2011. Of the $6,000,000, $2,000,000 will be available from CDC to support this effort. The remaining $4,000,000 will be awarded by HRSA's Office of Rural Health Policy's Rural Health Care Services Outreach Program, of which $2,000,000 will be provided the first year and an additional $2,000,000 will be provided the second year. Funding beyond the first year, however, is dependent on the availability of appropriated funds, grantee satisfactory performance, and a decision that continued funding is in the best interest of the Federal Government.

Project Period: The project period for this grant is August 1, 2009, through July 31, 2011.

Authority: This activity is funded under the authority of HRSA's Rural Health Care Services Outreach Program, statutory authority Section 330A(e) of the Public Health Service Act, as amended (42 U.S.C. 254c(e)); and the CDC's statutory authority Section 317(k)(2) of the Public Health Service Act, as amended (42 U.S.C. 247b(k)(2)). The authority for the single source award is HHS Grants Policy Directive 2.04, Awarding Grants.

Catalogue of Federal Domestic Assistance Number: HRSA's Rural Health Care Services Outreach Grant: 93.912. CDC Screening Program: 93.161.

Justification for Single Source Awards: Because of the serious public health problem in Lincoln County, Montana, and the prevalence of asbestos-related diseases among the residents, their health is at risk of being severely impaired by lack of essential screening and related medical treatment. Due to the urgency of the situation, HRSA cannot run a full or limited competition since this process would take approximately 290 days.

LCHD has been identified as uniquely qualified for undertaking this activity. LCHD has the requisite administrative and medical infrastructure as well as prior experience with screening and coordinating treatment with other local health care providers. In addition, tracking of disease incidents is a necessary component of the award activity and LCHD has previously worked with the Montana Department of Public Health and Human Services in developing and maintaining their asbestos-related disease registry. LCHD is in a unique position to immediately undertake and coordinate the award activities necessary to address this urgent public health problem and in a manner minimizing adverse health outcomes that might otherwise result from an extended delay in providing such services.

FOR FURTHER INFORMATION CONTACT: Tom Morris, Associate Administrator, Office of Rural Health Policy, Health Resources and Services Administration, 5600 Fishers Lane, Rockville, MD 20857; phone 301-443-0835; tmorris@hrsa.gov.

Dated: July 10, 2009.
Mary K. Wakefield,
Administrator.

[FR Doc. E9-16959 Filed 7-16-09; 8:45 am]

BILLING CODE 4165-15-P